Proclamation 10297 of October 29, 2021

National Alzheimer's Disease Awareness Month, 2021

By the President of the United States of America

A Proclamation

For more than 6 million Americans and the family members and friends who love them, Alzheimer's disease can be devastating. This common form of dementia is a cruel and fatal condition that erodes the ability to think, to recall precious memories, and to live independently. During National Alzheimer's Disease Awareness Month, we stand with all those families confronting this challenging disease and recommit ourselves to improving treatment and finding a cure.

A leading cause of death in seniors, Alzheimer's exacts a heartbreaking human toll on our Nation—as well as a deep economic toll, with the cost of treatment exceeding $300 billion in 2020 alone. But recent advances in biomedical science offer hope for better days ahead. As the scientific community continues to make strides toward a better understanding of Alzheimer's—and, ultimately, a cure—it is critical that we do all we can to expedite progress and alleviate the suffering caused by this disease.

To that end, I have asked the Congress to fund a new program called the Advanced Research Projects Agency for Health (ARPA-H). Modeled on the Defense Advanced Research Project Agency, a Government program that led to the creation of the Internet, GPS, and countless other vital technologies, ARPA-H would accelerate our research on detecting, treating, and curing diseases like Alzheimer's. My Administration is also building on the progress of the Obama-Biden Administration's National Plan to address Alzheimer's, which set our Nation on an aggressive course to improve research, provide optimal medical care, and enhance long-term services to meet the needs of families in the United States currently living with this terrible disease. As we pursue this effort, my Administration is also committed to ensuring that people who are disproportionately affected by Alzheimer's and related dementias—especially older Black and Brown Americans, who are 2 to 3 times more likely to be affected—are seen, heard, and included in the quest to treat and prevent these conditions.

As we mark National Alzheimer's Disease Awareness Month, we also honor those who care and provide for the victims of this devastating disease. The work of our Nation's caregivers can be physically demanding and emotionally exhausting—especially during the COVID-19 pandemic, when caregivers have made substantial sacrifices to protect their loved ones suffering from Alzheimer's. Caregivers deserve our respect as well as our support, which is why the American Rescue Plan invested $145 million to help caregivers provide for their loved ones—a foundation that my Administration's Build Back Better agenda will build upon.

I believe that our Nation stands at an unprecedented moment of scientific promise—it is critical that we keep up the fight against Alzheimer's until a cure is found and continue to care for all those affected by this condition in the meantime. For resources and information on living with or caring for someone with Alzheimer's disease, please visit www.Alzheimers.gov.

NOW, THEREFORE, I, JOSEPH R. BIDEN JR., President of the United States of America, by virtue of the authority vested in me by the Constitution and the laws of the United States, do hereby proclaim November 2021 as National Alzheimer's Disease Awareness Month. I call upon the people of the United States of America to learn more about Alzheimer's and to offer their support to the individuals living with this disease and to their caregivers.

IN WITNESS WHEREOF, I have hereunto set my hand this twenty-ninth day of October, in the year of our Lord two thousand twenty-one, and of the Independence of the United States of America the two hundred and forty-sixth.

[FR Doc. 2021-24115

Filed 11-2-21; 8:45 am]

Billing code 3395-F2-P